INTERNATIONAL TRADE COMMISSION

[Inv. No. 337-TA-476]

In the Matter of Certain Radios and Components Thereof; Notice of Commission Decision Not To Review an Initial Determination Granting Complainant's Motion To Terminate the Investigation

AGENCY: International Trade Commission.

ACTION: Notice.

SUMMARY: Notice is hereby given that the U.S. International Trade Commission has determined not to review the presiding administrative law judge's (“ALJ's”) initial determination (“ID”) granting complainant's motion to terminate the investigation based on withdrawal of the complaint.

FOR FURTHER INFORMATION CONTACT: Mark B. Rees, Esq., Office of the General Counsel, U.S. International Trade Commission, 500 E Street, SW., Washington, DC 20436, telephone (202) 205-3116. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: On August 14, 2002, the Commission instituted this investigation based on a supplemented complaint (“complaint”) filed by Bose Corporation (“complainant”) against Sun Coast Merchandise Corporation (“respondent”). The complaint alleged violations of section 337 of the Tariff Act of 1930 in the importation into the United States, the sale for importation, and the sale within the United States after importation of certain radios and components thereof by reason of infringement of U.S. Trademark Registration No. 2,299,158. 67 FR 53007 (2002).

On February 4, 2003, after the private parties reached a confidential settlement agreement (“Settlement”), complainant filed a Motion to Terminate Investigation (“motion”). On February 10, 2003, complainant supplemented its motion with a copy of the Settlement. Respondent did not oppose the motion or the supplement's filing. On February 14, 2003, the Commission investigative attorney filed a response in support of the motion and the investigation's termination. On February 21, 2003, the ALJ issued an ID (Order No. 22) granting the motion. No petitions for review of the ID were filed.

The authority for the Commission's determination is contained in section 337 of the Tariff Act of 1930, as amended (19 U.S.C. 1337), and in section 210.42 of the Commission's Rules of Practice and Procedure (19 CFR 210.42).

By order of the Commission.
Issued: March 10, 2003.
Marilyn R. Abbott,
Secretary to the Commission.

[FR Doc. 03-6154 Filed 3-14-03; 8:45 am]

BILLING CODE 7020-02-P